DEPARTMENT OF HOUSING AND URBAN DEVELOPMENT

[Docket No. FR-5285-N-30]

Emergency Comment Request; Notice of Proposed Information Collection for Public Comment; FHA Lender Approval, Annual Renewal, Periodic Updates and Noncompliance Reporting by FHA Approved Lenders

AGENCY: Office of the Chief Information Officer, HUD.

ACTION: Notice of proposed information collection.

SUMMARY: The proposed information collection requirement described below has been submitted to the Office of Management and Budget (OMB) for emergency review and approval, as required by the Paperwork Reduction Act. The Department is soliciting public comments on the subject proposal.

DATES: Comments Due Date: October 15, 2009.

ADDRESSES: Interested persons are invited to submit comments regarding this proposal. Comments must be received within seven (14) days from the date of this Notice. Comments should refer to the proposal by name/or OMB approval number) and should be sent to: Ross A. Rutledge, HUD Desk Officer, Office of Management and Budget, New Executive Office Building, Washington, DC 20503; e-mail: Ross_A._Rutledge@omb.eop.gov; fax: 202-395-6974.

FOR FURTHER INFORMATION CONTACT: Lillian L. Deitzer, Reports Management Officer, QDAM, Department of Housing and Urban Development, 451 Seventh Street, SW., Washington, DC 20410; e-mail Lillian_L_Deitzer@HUD.gov; telephone (202) 708-2374. This is not a toll-free number. Copies of available documents submitted to OMB may be obtained from Ms. Deitzer.

SUPPLEMENTARY INFORMATION: This Notice informs the public that the U.S. Department of Housing and Urban Development (HUD) has submitted to OMB, for emergency processing, an information collection package with respect to implement statutory changes related to FHA approved lenders contained in Section 203 of the “Helping Families Save Their Homes Act of 2009” (Pub. L. 111-22) (the HFSH Act). The HFSH Act establishes: (1) Additional ineligibility criteria for FHA-approved lenders and mortgagees including any officer, partner, director, principal, manager, supervisor, loan processor, loan underwriter, or loan originator of the applicant seeking FHA lender approval or any currently approved FHA lender; (2) new reporting requirements if individual employees of the lender are subject to any sanction or any other administrative action, including if there is a revocation of a State-issued mortgage loan originator license issued pursuant to the S.A.F.E. Act; and (3) a new requirement that FHA lenders must use their business name as registered with FHA in all of their marketing materials.

This Notice is soliciting comments from members of the public and affecting agencies concerning the proposed collection of information to: (1) Evaluate whether the proposed collection of information is necessary for the proper performance of the functions of the agency, including whether the information will have practical utility; (2) Evaluate the accuracy of the agency's estimate of the burden of the proposed collection of information; (3) Enhance the quality, utility, and clarity of the information to be collected; and (4) Minimize the burden of the collection of information on those who are to respond; including through the use of appropriate automated collection techniques or other forms of information technology, e.g., permitting electronic submission of responses.

This Notice also lists the following information:

Title of Proposal: FHA Lender Approval, Annual Renewal, Periodic Updates and Required Reports from FHA Approved Lenders.

OMB Control Number, if applicable: 2502-0005.

Description of the need for the information and proposed use: This information is required for: (1) FHA lender approval, (2) Annual renewal of each FHA lender's approval, (3) Updates to a FHA lender's approval and (4) Various reports from FHA lenders.

Agency Form Numbers, if Applicable
HUD-92001-A | FHA Lender Approval Application Form
HUD-92001-B | FHA Branch Registration Form
HUD-92001-C | Conversion of Existing FHA Lender Approval Type Application Form
HUD 92001-D Previously HUD-92001-C | Title I Loan Noncompliances Report
HUD-92001-E | Application Fee Cover Sheet for Title I Approvals
HUD-92001-F | Application Fee Cover Sheet for Title II Approvals
HUD-92001-LC | FHA Loan Correspondent Application Approval Form

Estimation of the Total Numbers of Hours Needed To Prepare the Information Collection Including Number of Respondents, Frequency of Response, and Hours of Response
[Information collection burden for 2502-0005]
Item No. | Information collection | Number of respondents | Total annual responses | Hours per response | Total annual hours | Cost per hour | Total annual cost
A | Non-online submission of HUD-92001-A Application for FHA Lender Approval | 400 | 400 | 2.00 | 800 | $47 | $37,600
B | Online submission of HUD-92001-A Application for FHA Lender Approval (Currently under development) |  |  | .50 |  | 47 |
C | Non-online submission of HUD-92001-LC Application for FHA Loan Correspondent Approval | 1,800 | 1,800 | 2.00 | 3,600 | 47 | 169,200
D | Non-online submission of HUD-92001-C Application for Conversion of Existing FHA Lender Approval Type | 200 | 200 | 2.00 | 400 | 47 | 18,800
E | Non-online Submission of HUD-92100-B Application for Registration of New Branch (including attachments) |  | 500 | .50 | 250 | 47 | 11,750
F | Online Registration of New Branches via FHA Connection |  | 2,000 | .10 | 200 | 47 | 9,400
G | Non-online Submission of HUD-92001-D Reporting of Title I Loan Non-Compliance |  | 100 | 1.00 | 100 | 47 | 4,700
H | Online Submission of Reporting of Title II Loan Non-Compliance |  | 4,800 | .15 | 720 | 47 | 38,840
I | Non-online submission of HUD-92001-E and 92001-F Cover Sheets for Title I and Title II Lender Approval Applications or Conversion Fee Payment |  | 2,400 | .05 | 120 | 47 | 5,640
J | Online Application Fee Payment for Title I or Title II Lender Approval or Conversion (currently under development) |  |  | .05 |  |  |
K | Non-online submission of HUD 92001-E and 92001-F Cover Sheets for Title I and Title II Branch Fee Payment |  | 500 | .05 | 25 | 47 | 1,175
L | Online Branch Registration Fee for Title I or Title II Branches |  | 2,000 | .05 | 100 | 47 | 4,700
M | Online Annual Certification Report for all Title I and Title II approved lenders and loan correspondents | 14,000 | 14,000 | .10 | 1,400 | 47 | 65,800
N | Online Submission of Annual Audited Financial Statements using the Lender Assessment SubSystem via FHA Connection by Title I and Title II Nonsupervised Lenders, Supervised Lenders and Nonsupervised Loan Correspondents |  | 11,000 | 3.00 | 33,000 | 47 | 1,510,000
O | Online payment of annual renewal fee by all FHA Lenders except Government Lenders |  | 13,800 | .05 | 690 | 47 | 32,430
P | Online Termination of Existing Branch by all lenders |  | 4,000 | .05 | 200 | 47 | 9,400
Q | Online Business Changes of a Lender |  | 5,000 | .25 | 1250 | 47 | 58,750
R | Non-Online Business Changes of a Lender |  | 4,000 | .50 | 2,000 | 47 | 94,000
S | Non-online Credit Watch Termination Reinstatement Requests |  | 20 | 8.00 | 160 | 47 | 7,520
Totals |  |  | 66,520 |  | 45,015 | 47 | 2,115,705

Authority: The Paperwork Reduction Act of 1995, 44 U.S.C. Chapter 35, as amended.

Dated: September 24, 2009.
Lillian L. Deitzer,
Departmental Reports Management Officer, Office of the Chief Information Officer.

[FR Doc. E9-23710 Filed 9-30-09; 8:45 am]

BILLING CODE 4210-67-P